DEPARTMENT OF ENERGY

Federal Energy Regulatory Commission

[Docket No. CP07-444-000]

Jordan Cove Energy Project, L.P.; Notice of Technical Conference

November 19, 2007.

On Wednesday, December 12, 2007, at 9 a.m. (PST), staff of the Office of Energy Projects will convene an engineering design and technical conference regarding the proposed Jordan Cove LNG import terminal. The conference will be held at the Red Lion Hotel in Coos Bay, Oregon. The hotel is located at 1313 N Bayshore Dr. #1, Coos Bay, OR 97420. For hotel details call (541) 267-4141.

In view of the nature of critical energy infrastructure information and security issues to be explored, the cryogenic conference will not be open to the public. Attendance at this conference will be limited to existing parties to the proceeding (anyone who has specifically requested to intervene as a party) and to representatives of interested federal, state, and local agencies. Any person planning to attend the December 12th cryogenic conference must register by close of business on Monday, December 10, 2007. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the cryogenic conference, please contact Steven Busch at 202-502-6353.

Kimberly D. Bose,
Secretary.

[FR Doc. E7-23041 Filed 11-26-07; 8:45 am]

BILLING CODE 6717-01-P